ENVIRONMENTAL PROTECTION AGENCY

[FRL-7925-5]

Recent Posting to the Applicability Determination Index (ADI) Database System of Agency Applicability Determinations, Alternative Monitoring Decisions, and Regulatory Interpretations Pertaining to Standards of Performance for New Stationary Sources, National Emission Standards for Hazardous Air Pollutants, and the Stratospheric Ozone Protection Program

AGENCY: Environmental Protection Agency (EPA).

ACTION: Notice of availability.

SUMMARY: This notice announces applicability determinations, alternative monitoring decisions, and regulatory interpretations that EPA has made under the New Source Performance Standards (NSPS); the National Emission Standards for Hazardous Air Pollutants (NESHAP); and the Stratospheric Ozone Protection Program.

FOR FURTHER INFORMATION CONTACT: An electronic copy of each complete document posted on the Applicability Determination Index (ADI) database system is available on the Internet through the Office of Enforcement and Compliance Assurance (OECA) Web site at: http://www.epa.gov/compliance/assistance/applicability. The document may be located by date, author, subpart, or subject search. For questions about the ADI or this notice, contact Maria Malave at EPA by phone at: (202) 564-7027, or by email at: malave.maria@epa.gov. For technical questions about the individual applicability determinations or monitoring decisions, refer to the contact person identified in the individual documents, or in the absence of a contact person, refer to the author of the document.

SUPPLEMENTARY INFORMATION:

Background

The General Provisions to the NSPS in 40 CFR part 60 and the NESHAP in 40 CFR part 61 provide that a source owner or operator may request a determination of whether certain intended actions constitute the commencement of construction, reconstruction, or modification. EPA's written responses to these inquiries are broadly termed applicability determinations. See 40 CFR 60.5 and 61.06. Although the part 63 NESHAP and section 111(d) of the Clean Air Act regulations contain no specific regulatory provision that sources may request applicability determinations, EPA does respond to written inquiries regarding applicability for the part 63 and section 111(d) programs. The NSPS and NESHAP also allow sources to seek permission to use monitoring or recordkeeping which is different from the promulgated requirements. See 40 CFR 60.13(i), 61.14(g), 63.8(b)(1), 63.8(f), and 63.10(f). EPA's written responses to these inquiries are broadly termed alternative monitoring decisions. Furthermore, EPA responds to written inquiries about the broad range of NSPS and NESHAP regulatory requirements as they pertain to a whole source category. For example, these inquiries may pertain to the type of sources to which the regulation applies, or to the testing, monitoring, recordkeeping or reporting requirements contained in the regulation. EPA's written responses to these inquiries are broadly termed regulatory interpretations.

EPA currently compiles EPA-issued NSPS and NESHAP applicability determinations, alternative monitoring decisions, and regulatory interpretations, and posts them on the Applicability Determination Index (ADI) on a quarterly basis. In addition, the ADI contains EPA-issued responses to requests pursuant to the stratospheric ozone regulations contained in 40 CFR part 82. The ADI is an electronic index on the Internet with more than one thousand EPA letters and memoranda pertaining to the applicability, monitoring, recordkeeping, and reporting requirements of the NSPS and NESHAP. The letters and memoranda may be searched by date, office of issuance, subpart, citation, control number or by string word searches.

Today's notice comprises a summary of 42 such documents added to the ADI on May 20, 2005. The subject, author, recipient, date and header of each letter and memorandum are listed in this notice, as well as a brief abstract of the letter or memorandum. Complete copies of these documents may be obtained from the ADI through the OECA Web site at: http://www.epa.gov/compliance/assistance/applicability.

Summary of Headers and Abstracts

The following table identifies the database control number for each document posted on the ADI database system on May 20, 2005; the applicable category; the subpart(s) of 40 CFR part 60, 61, or 63 (as applicable) covered by the document; and the title of the document, which provides a brief description of the subject matter. We have also included an abstract of each document identified with its control number after the table. These abstracts are provided solely to alert the public to possible items of interest and are not intended as substitutes for the full text of the documents.

ADI Determinations Uploaded on April X, 2005: Control | ADI Determinations Uploaded on April X, 2005: Category | ADI Determinations Uploaded on April X, 2005: Subparts | ADI Determinations Uploaded on April X, 2005: Title
M050001 | MACT | OOOO, JJJJ | Laminators.
M050002 | MACT | F, G | Gas Streams and Process Vents.
M050003 | MACT | EEE | Alternative Span for CO Monitors in High Oxygen Applications.
M050004 | MACT | GGG | Carbon Adsorber Minimum Regeneration Frequency.
M050005 | MACT | EEE | Alternative Monitoring for Hazardous Waste Incinerator.
M050006 | MACT | LLL | Alternative Opacity Monitoring Procedures.
M050007 | MACT | JJJJ | Papermill Machinery.
M050008 | MACT | EEEE, S | Methanol Storage Tanks for Pulp Bleaching.
M050009 | MACT | OOOO | Carbon Fiber Manufacturing.
M050010 | MACT | GGGGG | Site Remediation—Threshold Quantity of HAPs.
M050011 | MACT | MM | Scrubber Pressure Drop Monitoring Parameters.
M050012 | MACT | MM | Early Particulate Performance Test for Recovery Furnace.
M050013 | MACT | MM | Alternative Compliant Operating Parameter Range.
M050014 | MACT | MM | Compliant Scrubber Liquor Flow Rate and Supply Pressure.
M050015 | MACT | MM | Testing to Establish Parameter Operating Range.
M050016 | MACT | RRR | Aluminum Die Casting Facility as Area Source.
M050017 | MACT | RRR | Alternative Reactive Flux Injection Monitoring.
M050018 | MACT | RRR | Group 2 Furnaces at Area Source.
M050019 | MACT | MM | Pressure Drop Monitoring.
Z050001 | NESHAP | FF | Junction Box Tight Seal Requirements.
Z050002 | NESHAP | M | Removal or Relocation of Facility.
Z050003 | NESHAP | M | Polarized Light Microscopy (PLM) and Point Count Methods for Vermiculite Insulation.
0400037 | NSPS | VVV | Polymeric Coating and Sailcloth.
0400038 | NSPS | NNN | Fuel Ethanol Exemption
0500001 | NSPS | GG | Custom Fuel Monitoring.
0500002 | NSPS | III | Gas Streams and Process Vents.
00500003 | NSPS | Dc | Custom Fuel Usage Monitoring.
0500004 | NSPS | GG | New Test Port Locations.
0500005 | NSPS | GG | Oxygen Stratification Testing.
0500006 | NSPS | GG | Extension of Time to Test.
0500007 | NSPS | GG | Custom Fuel Monitoring/Performance Testing.
0500008 | NSPS | GG | Custom Fuel Monitoring/Performance Testing.
0500009 | NSPS | GG | Custom Fuel Monitoring/Performance Testing.
0500010 | NSPS | GG | Custom Fuel Monitoring. ]
0500011 | NSPS | J | Fluid Catalytic Cracking Units (FCCU) Compliance Options.
0500012 | NSPS | GG | Custom Fuel Monitoring/Performance Testing.
0500013 | NSPS | Dc | Alternative Monitoring, Recordkeeping, and Reporting.
0500014 | NSPS | K, Ka, Kb | Installation of Floating Roofs.
0500015 | NSPS | GG | Custom Fuel Monitoring/Performance Testing.
0500016 | NSPS | KKK, HH | Injection of Processed Natural Gas into Wells.
0500017 | NSPS | Da, Db, Dc, D | Autoflame Control System Technology for Boiler Derate.
0500018 | NSPS | GG | Custom Fuel Monitoring/Performance Testing.

Abstracts

Abstract for [0400037]

Q1: Are various coating/lamination lines at the Dimension Polyant Sailcloth manufacturing company in Putnam, Connecticut subject to 40 CFR part 60, subpart VVV?

A1: EPA has reviewed the processes and has clarified which processes at this facility are covered by NSPS subpart VVV and which are not.

Q2: If the affected facility uses less than 95 Mg of Volatile Organic Compound (VOC) emissions VOC per 12-month period, is it subject only to the requirements of NSPS subpart VVV in 40 CFR 60.744(b), 60.747(b) and 60.747(c)?

A2: EPA has determined that as long as the amount of VOC used on each coating line is less than 95 Mg per 12-month period from the NSPS subpart VVV-covered activities on that coating line, the facility is subject only to the requirements of 40 CFR 60.744(b), 60.747(b), and 60.747(c).

Abstract for [0400038]

Q: Will EPA waive the requirements under 40 CFR part 60, subpart NNN, for the Penn Mar Ethanol facility in York, Pennsylvania, as this is a fuel ethanol production facility?

A: Yes. Consistent with previous EPA Region V determinations, EPA Region III waives the NSPS subpart NNN requirements for fuel ethanol facilities that do not in any way produce beverage alcohol.

Abstract for [0500001]

Q: Will EPA allow the use of fuel supplier certifications under 40 CFR part 60, subpart GG, for numerous shipments of distillate oil to the Easton Utilities turbines in Easton, Maryland?

A: Yes. EPA will allow the use of fuel supplier certifications under NSPS subpart GG on the sulfur and nitrogen content of distillate oil for stationary gas turbine fuel.

Abstract for [M050001]

Q: Is the Shawmut facility in West Bridgewater, Massachusetts, subject to either Maximum Achievable Control Technology (MACT) subpart OOOO, the fabric coating MACT, or MACT subpart JJJJ, the paper and other web coating MACT? It laminates fabrics and other textiles to plastic films, fabrics to foams, as well as foams to fabrics, using a rotogravure roll in its adhesive lamination process to apply adhesive and laminators at ambient temperature and without drying ovens.

A: EPA has determined that because the existing and proposed laminators will operate at ambient temperature and without drying ovens, the adhesive lamination process is not subject to MACT subpart OOOO. EPA also has determined that the adhesive lamination process meets the definition of web coating line in MACT subpart JJJJ and therefore, it is subject to the standard.

Abstract for [M050002]

Q: Are gas streams from vents off of tanks collecting condensed steam, volatile organic compounds and hazardous air pollutants from carbon adsorption regeneration systems at the Sunoco Chemicals phenol plant in Philadelphia, Pennsylvania subject to the process vent provisions of 40 CFR part 63, subparts F and G?

A: Yes. These gas streams meet all of the criteria for process vents outlined in 40 CFR 63.107. The total resource effectiveness (TRE) factor needs to be calculated after the last recovery device. For these systems, this point is after the gas streams from the tanks collecting condensed steam combine with the vent stream off of the carbon adsorption systems, but prior to the flash back preventers which are directly upstream of the catalytic incinerator.

Abstract for [0500002]

Q: Are gas streams from vents off of tanks collecting condensed steam, volatile organic compounds and hazardous air pollutants from carbon adsorption regeneration systems at the Sunoco Chemicals phenol plant in Philadelphia, Pennsylvania subject to the process vent provisions of 40 CFR part 60, subpart III?

A: Yes. These gas streams meet the definition for vent stream in 40 CFR 60.611. The total resource effectiveness (TRE) factor needs to be calculated after the last recovery device. For these systems, this point is after the gas streams from the tanks collecting condensed steam combine with the vent stream off of the carbon adsorption systems, but prior to the flash back preventers which are directly upstream of the catalytic incinerator.

Abstract for [0500003]

Q: Will EPA approve the use of monthly fuel usage monitoring under 40 CFR part 60, subpart Dc, for the new package boiler at ISG's Steelton, Pennsylvania facility?

A: Yes. EPA will approve the use of monthly fuel usage monitoring and recording rather than daily monitoring as provided by NSPS subpart Dc because the new package boiler is only permitted to combust very clean pipeline-quality natural gas as fuel.

Abstract for [0500004]

Q: Will EPA approve new test port locations for conducting the oxygen traverse and gas sampling under 40 CFR part 60, subpart GG, for the Old Dominion Electric Cooperative Marsh Run facility in Louisa, Virginia?

A: Yes. EPA will approve the new test port location and reduced amount of oxygen traverse data in the exhaust stack from the turbine under NSPS subpart GG provided that the oxygen range for the 8 traverse points does not exceed 0.5 percent oxygen and the average oxygen content is greater than 15 percent.

Abstract for [0500005]

Q: Will EPA approve fewer sampling points for measuring oxygen stratification from stationary gas turbines under 40 CFR part 60, subpart GG, if an identical turbine station at Old Dominion Electric Cooperative's Louisa, Virginia facility has already been tested?

A: Yes. EPA will approve the request for a reduced number of oxygen stratification testing points under NSPS subpart GG because the facility has already tested identical turbines with identical exhaust gas stack configuration.

Abstract for [0500006]

Q: Will EPA allow different start-up dates under 40 CFR part 60, subpart GG, for Old Dominion Electric Cooperative's new Marsh Run facility in Fauquier County, Virginia; one start-up date for its stationary gas turbine on natural gas fuel and one separate start-up date for its stationary gas turbine on distillate oil combustion?

A: Yes. EPA will allow separate start-up dates to test the emissions of its stationary gas turbines under NSPS subpart GG.

Abstract for [M050003]

Q: Will EPA waive the provisions of 40 CFR part 63, subpart EEE, appendix section 6.3.4, regarding adjustments to carbon monoxide (CO) monitor spans when monitoring in high oxygen environments, for the Solite Corporation lightweight aggregate kilns in Arvonia and Cascade, Virginia?

A: No. EPA will not waive the provisions of Maximum Achievable Control Technology (MACT) subpart EEE. Failure to account for a high oxygen correction factor would adversely affect the facilities' ability to demonstrate compliance with the CO emission standard. Several alternative approaches are discussed.

Abstract for [M050004]

Q: May the Abbott Laboratories facility in North Chicago, Illinois, subject to 40 CFR part 63, subpart GGG, establish an alternative monitoring parameter for regenerating its carbon adsorber? (For the active mode with the processes running, the minimum regeneration frequency is 51 minutes. For the idle mode when only storage tanks operate, the facility proposes to decrease this frequency to 14 days.)A: Yes. EPA will allow the facility to establish an alternative monitoring parameter under Maximum Achievable Control Technology (MACT) subpart GGG. However, rather than 14 days, EPA approves a minimum regeneration frequency of 7 days, which the facility has shown to be adequate. The facility must maintain records of when the adsorber operates in the active and idle modes.

Abstract for [0500007]

Q1: Will EPA approve a custom fuel monitoring schedule under 40 CFR part 60, subpart GG for the fuel sulfur content of pipeline quality natural gas at Allegheny Energy Supply Company's St. Joseph Generating facility near New Carlisle, Indiana?

A1: Yes. EPA approves the custom fuel monitoring schedule based on its August 14, 1987 guidance, “Authority for Approval of Custom Fuel Monitoring Schedules Under NSPS Subpart GG.”

Q2: Will EPA waive the fuel bound nitrogen requirement for pipeline quality natural gas under 40 CFR part 60, subpart GG?

A2: Yes. EPA waives the fuel bound nitrogen requirement based on its August 1987 guidance for NSPS subpart GG.

Q3: Will EPA approve nitrogen oxides (NOX)emission monitoring under 40 CFR part 60, subpart GG using NOX continuous emissions monitoring systems (CEMS) rather than monitoring water-to-fuel injection rates?

A3: Yes. EPA approves NOX emission monitoring using CEMS under NSPS subpart GG.

Q4: Will EPA waive the requirement under 40 CFR part 60, subpart GG to make the International Standards Organization (ISO) correction for NOX CEMS data that is used to determine compliance?

A4: No. EPA determines that under NSPS subpart GG, facilities using NOX CEMS data to determine compliance must also maintain records of the data necessary to correct the CEMS data to ISO conditions (i.e., ambient temperature, ambient humidity and combustor inlet pressure).

Q5: Will EPA approve under 40 CFR part 60, subpart GG the initial NOX compliance testing at full load rather than multiple load points?

A5: Yes. Facilities that are using NOX CEMS to demonstrate compliance may conduct the initial compliance demonstration at “peak load” only, as that term is defined at 40 CFR 60.331(i), rather than at multiple loads.

Q6: Will EPA approve the use of NOX CEMS the relative accuracy test audit (RATA) data as an alternative performance test for NOX under 40 CFR part 60, subpart GG?

A6: Yes. EPA approves the use of NOX CEMS RATA data under NSPS subpart GG.

Abstract for [0500008]

Q1: Is it acceptable to use certified nitrogen oxides (NOX) continuous emission monitoring system (CEMS) for the initial compliance demonstration under 40 CFR part 60, subpart GG, rather than EPA Reference Method 20 for Ameren Energy Generating Company's Elgin Energy Center in Elgin, Illinois?

A1: Yes. For facilities that burn pipeline quality natural gas, this is acceptable under NSPS subpart GG.

Q2: Will EPA approve the use of certified NOX CEMS as an alternative to the monitoring requirements under 40 CFR part 60, subpart GG?

A2: Yes. EPA approves the use of certified CEMS as alternative monitoring under NSPS subpart GG.

Q3: Will EPA approve the use of the procedures in 40 CFR part 75, appendix D, section 2.3.1 as an alternative to the daily fuel sampling required by 40 CFR part 60, subpart GG?

A3: Yes. EPA approves the alternative under NSPS subpart GG, provided that the natural gas meets the definition of pipeline natural gas as that term is defined in the Acid Rain regulations at 40 CFR part 72 section 72.2.

Q4: Will EPA waive the 40 CFR part 60, subpart GG requirement for the fuel bound nitrogen determination for pipeline quality natural gas?

A4: Yes. EPA waives the fuel bound nitrogen determination under NSPS subpart GG.

Abstract for [0500009]

Q1: Will EPA approve the use of the relative accuracy test audit (RATA) data from nitrogen oxides (NOX) Continuous Emission Monitoring Systems(CEMS) at Aquila's Goose Creek Energy Center in Deland, Illinois, as an alternative to EPA Reference Method 20 required by 40 CFR part 60, subpart GG, for natural gas-fired turbines?

A1: Yes. EPA approves the use of certified NOX CEMS RATA data for the initial compliance demonstration under NSPS subpart GG for natural gas-fired turbines.

Q2: If using NOX CEMS for its initial performance test, can a natural gas-fired turbine conduct its initial performance test at one load rather than 4 loads, as required by 40 CFR 60.335(c)(2)?

A2: Yes. If a source is using data from a certified NOX CEMS as its initial performance test, data only needs to be collected at “peak load,” as defined at 40 CFR 60.331(i).

Abstract for [0500010]

Q: Will EPA approve the use of Gas Processors Associations Standard (GPA) 2377-86 as an alternative to the American Society for Testing and Materials (ASTM) method cited in 40 CFR 60.335 for measuring the sulfur content of natural gas at Calpine's Zion Energy Center in Zion, Illinois?

A: Yes. EPA approves the alternative measurement because: (1) It has numerical repeatability, reproducibility and bias statements, and has sufficient quality control requirements; (2) it is anticipated that the sulfur level will be substantially below the 0.8 weight percent allowed; (3) this method will not be used for performance tests; (4) the recordkeeping and reporting requirements of NSPS subparts A and GG apply; and (5) if GPA Standard 2377-86 is revised in the future, this portion of this approval is no longer valid and the owner/operator must submit a new alternative monitoring request for sulfur dioxide (SO2) with a copy of the revised GPA Standard.

Abstract for [0500011]

Q1: Will EPA allow Flint Hill Resources's fluid catalytic cracking units (FCCU), operating without a scrubber, to comply with the 50 ppm emission limit compliance option under the 40 CFR part 60, subpart J, sulfur dioxide (SO2) standards for FCCU catalyst regenerators?

A1: Yes. Because the 50 ppm emission limit compliance option is the most stringent of all options available under 40 CFR 60.104(b), FCCU feed hydrotreating and low-SOX catalyst additives may be used to meet the 50 ppmv SO2 emission limit. However, as determination of the inlet SO2 concentration is not possible using low-SOX catalyst additives, the 90 percent reduction portion of 40 CFR 60.104(b)(1) may not be chosen.

Q2: Can the compliance option chosen to comply with 40 CFR part 60, subpart J be changed in the case of a scheduled startup or shutdown of the hydrotreater?

A2: Yes. The option chosen to comply with 40 CFR 60.104(b) may be changed in the case of a scheduled startup or shutdown of the hydrotreater as long as daily compliance tests demonstrating compliance with that standard are started 7 days before the shutdown.

Abstract for [Z050001]

Q: Are covers on junction boxes at Marathon Ashland Petroleum's facilities required to be equipped with a gasket in order to satisfy the “tight seal” requirements for junction box covers under 40 CFR part 61, subpart FF?

A: No. 40 CFR 61.346(b)(2)(1) requires that junction boxes prevent leaks to the atmosphere in order to satisfy the “tight seal” requirements. However, consistent with a prior determination for similar provisions under 40 CFR part 60, a gasket is not necessarily required to achieve the tight seal.

Abstract for [0500012]

Q1: Is it acceptable under 40 CFR part 60, subpart GG to conduct the nitrogen oxides (NOX) initial compliance determination at full load rather than at multiple load points at the Mirant Sugar Creek, LLC Power Plant in West Terre Haute, Indiana?

A1: Yes. Facilities using certified NOX continuous emission monitoring systems (CEMS) for the initial compliance determination can make this determination at peak load rather than multiple load points under NSPS subpart GG.

Q2: Will EPA approve the use of NOX CEMS as an alternative to the NOX monitoring required in 40 CFR part 60, subpart GG?

A2: Yes. Provided that these conditions are met: (1) Each gas turbine must meet the emission limitation determined according to 40 CFR 60.332; (2) each NOX CEMS must meet the applicable requirements of 40 CFR part 60, appendix B, Performance Specification 2, and appendix F for certifying, maintaining and assuring quality of the system; (3) the NOX CEMS must be used to demonstrate compliance with the emission limitation determined at 40 CFR 60.332 on a continuous basis; (4) recordkeeping requirements shall follow the requirements specified at 40 CFR 60.7; (5) each NOX CEMS must be operated in accordance with 40 CFR 60.13(e); and (6) data substitution methods or data exclusion methods provided for at 40 CFR part 75 may not be used to demonstrate compliance with 40 CFR part 60, subpart GG.

Abstract for [M050005]

Q1: Does EPA approve 3M's requests to use the minimum atomization header pressure for the rotary kiln's burners and lances as an operating parameter limit to ensure good operation of each waste firing system and to use the manufacturer's specifications to set the value of the operating parameter limit under 40 CFR part 63, subpart EEE?

A1: Yes. EPA grants the request under Maximum Achievable Control Technology (MACT) subpart EEE to use the minimum atomization header pressure as an operating parameter.

Q2: Does EPA approve 3M's request under 40 CFR part 63, subpart EEE for a combined minimum blow down rate operating parameter limit as an alternative to the requirement to establish separate minimum blow down rate operating parameter limits for two low energy wet scrubbers that use a common scrubber liquor tank?

A2: Yes. EPA grants the request under MACT subpart EEE for a combined minimum blow down rate operating parameter limit.

Q3: Does EPA approve 3M's request under 40 CFR part 63, subpart EEE for a combined minimum scrubber liquor pH operating parameter limit for the two low energy wet scrubbers in series that use a common scrubber liquor tank?

A3: Yes. EPA approves the request under MACT subpart EEE for a combined minimum scrubber liquor pH operating parameter limit.

Q4: Does EPA approve 3M's request under 40 CFR part 63, subpart EEE, for the first of two low energy scrubbers in series, that EPA waive the requirements to establish the following operating parameter limits: a minimum pressure drop, a minimum liquid feed pressure, and either a minimum liquid-to-gas ratio or a minimum scrubber liquor flow rate and a maximum flue gas flow rate? Does EPA approve 3M's request to approve the maximum outlet flue gas temperature from this wet scrubber as an alternative monitoring requirement?

A4: Yes. EPA approves both requests under MACT subpart EEE.

Q5: Does EPA approve 3M's request under 40 CFR part 63, subpart EEE, for the second of two low energy scrubbers, to waive the requirement to establish a minimum pressure drop operating parameter limit based on the manufacturer's specifications?

A5: Yes. EPA waives the requirement under MACT subpart EEE to establish a minimum pressure drop operating parameter limit.

Q6: Does EPA approve 3M's request under 40 CFR part 63, subpart EEE to waive the monitoring requirement to establish a minimum scrubber tank liquid level for a high energy wet scrubber?

A6: Yes. EPA waives the requirement under MACT subpart EEE to establish a minimum scrubber tank liquid level.

Q7: Does EPA approve 3M's request under 40 CFR part 63, subpart EEE, for a minimum secondary power operating parameter limit for a wet electrostatic precipitator as a representative and reliable indicator that the control device is operating within the same range of conditions as during the comprehensive performance test?

A7: Yes. EPA approves the request under MACT subpart EEE for a minimum secondary power operating parameter limit.

Abstract for [0500013]

Q: Will EPA allow the U.S. Smokeless Tobacco manufacturing plant in Franklin Park, Illinois, which has natural gas-fired boilers, to record and maintain monthly records of fuel usage instead of the daily records required under 40 CFR part 60, subpart Dc?

A: Yes. Based on past determinations, records of fuel usage for natural gas-fired boilers may be kept on a monthly basis in satisfaction of NSPS subpart Dc.

Abstract for [0500014]

Q: Magellan Pipeline Company installed floating roofs to existing petroleum storage tanks in conjunction with changes in fuels stored at five facilities in Minnesota. Are these considered modifications under 40 CFR part 60, subparts K, Ka, and Kb?

A: Yes. Changing fuels alone would be exempt under 40 CFR 60.14(e)(4), and installing floating roofs alone would be exempt under 40 CFR 60.14((e)(5). However, when both actions take place in conjunction, floating roofs must be part of the original construction specifications for the storage tanks in order for the modifications to be exempt. The company states that the original construction of the roofs did not encompass a floating roof design. Therefore, the storage tanks meet the criteria for modification under NSPS subparts K, Ka, and Kb.

Abstract for [0500015]

Q1: Will EPA accept under 40 CFR part 60, subpart GG, the replacement of the multiple load-testing requirements with a single load test while operating the combustion turbine at maximum load conditions at the Rocky Mountain Energy Center electric power generation facility in Weld County, Colorado?

A1: Yes. EPA approves the waiver under NSPS subpart GG from multiple load testing because, for combustion turbines equipped with nitrogen oxides continuous emission monitoring systems (NOX CEMS), the monitors will provide credible evidence regarding the unit's compliance status on a continuous basis following the initial test.

Q2: Will EPA accept the waiver of the NOX monitoring requirement for owners and operators of combustion turbines subject to 40 CFR part 60, subpart GG without intermediate bulk storage for fuel?

A2: Yes. EPA approves the waiver under NSPS subpart GG because this fuel does not contain fuel-bound nitrogen, and any free nitrogen that it may contain does not contribute appreciably to the formation of nitrogen oxides emissions.

Q3: Will EPA accept the waiver of the requirement under 40 CFR part 60, subpart GG to report NOX performance test results on an ISO-corrected basis?

A3: Yes. EPA approves the waiver under NSPS subpart GG because the level of compliance assurance provided in this case is sufficient.

Q4: Will EPA approve an alternative custom fuel (sulfur) monitoring plan under 40 CFR part 60, subpart GG for gas-fired combustion turbines?

A4: Yes. EPA approves the request for an alternative fuel monitoring plan under NSPS subpart GG because it is consistent with EPA's August 1987 fuel monitoring policy.

Abstract for [0500016]

Q: Do natural gas storage facilities that inject processed natural gas (i.e., liquids have been extracted) into depleted gas/oil wells or other underground caverns and then extract natural gas liquids from the gas upon withdrawal, fall under the “natural gas processing plant” definition of 40 CFR part 60, subpart KKK?

A: No. This type of facility does not meet the NSPS subpart KKK definition of “natural gas processing plant” because it is not extracting natural gas liquids from field gas, nor is it conducting fractionation of mixed natural gas liquids to natural gas products. NSPS subpart KKK would not apply to natural gas storage facilities that inject processed natural gas into depleted gas/oil wells or other underground caverns and then extract natural gas liquids from the gas upon withdrawal.

Abstract for [Z050002]

Q: Is the removal of a facility from its foundation, followed by relocation of the facility onto a new foundation, a demolition or renovation for purposes of 40 CFR part 61, subpart M?

A: Yes. This action constitutes a demolition under the regulatory definition because load-supporting structural members of a facility were taken out from the foundation when the facility was moved. The letter explains how two prior determinations are consistent on this issue and provides further regulatory clarifications related to this NESHAP regulation.

Abstract for [M050006]

Q: Under 40 CFR part 63, subpart LLL, may the Mountain Cement Company facility in Laramie, Wyoming, which has a material handling process (bulk unloading system) housed entirely within a building/closed structure, perform Method 22 observations for visual emissions on the sides and roof of the building?

A: Yes. The facility can conduct Method 22 visible emissions observations on each side of and the roof of the building under Maximum Achievable Control Technology (MACT) subpart LLL. The results of the Method 22 observations of the building must show no visible emissions. If visible emissions are detected during the Method 22 monitoring of the building, a Method 9 reading will be required.

Abstract for [Z050003]

Q: Do current standard polarized light microscopy (PLM) and point count test methods satisfy current minimum EPA regulatory requirements under 40 CFR part 61, subpart M, for analysis of vermiculite loose fill insulation?

A: Yes. PLM and point count methods satisfy EPA's minimum requirements under NESHAP subpart M for analysis of vermiculite loose fill insulation. However, EPA plans to publish a new more accurate method for analyzing vermiculite in the future, and is informing the public to consider all vermiculite as asbestos-containing material.

Abstract for [M050007]

Q: Are size presses and on-machine coaters used by the paper industry subject to the Paper and Other Web Coating Maximum Achievable Control Technology (MACT) requirements of 40 CFR part 63, subpart JJJJ?

A: No. Both size presses and on-machine coaters that function as part of the in-line papermaking system are used to form the paper substrate and thus are not subject to the MACT subpart JJJJ requirements.

Abstract for [M050008]

Q: Are methanol storage tanks used for the sole purpose of chlorine dioxide generation for pulp bleaching at pulp and paper mills subject to the Pulp and Paper Industry NESHAP, 40 CFR part 63, subpart S, or are they subject to the Organic Liquids Distribution NESHAP, 40 CFR part 63, subpart EEEE?

A: Methanol storage tanks used for the sole purpose of chlorine dioxide generation for pulp bleaching at pulp and paper mills are part of the mills' chlorine dioxide generation equipment, and are, therefore, a component of the bleaching system subject to NESHAP subpart S. They are not, however, subject to NESHAP subpart EEEE.

Abstract for [M050009]

Q: Is the application of sizing to carbon fiber during its manufacture at the Cytec Carbon Fibers facility in Rock Hill, South Carolina subject to the requirements of 40 CFR part 63, subpart OOOO?

A: No. Carbon fiber manufacturing is a synthetic fiber manufacturing process which is exempt from Maximum Achievable Control Technology (MACT) subpart OOOO.

Abstract for [0500017]

Q: Will EPA approve the Autoflame Control System Technology to derate a boiler for purposes of determining applicability of the NSPS subparts for boilers (40 CFR part 60, subparts D, Da, Db, and Dc)?

A: No. EPA will not approve the Autoflame Control System Technology because derate methods that are based solely on fuel feedrate control, as the Autoflame Control System Technology is, are not acceptable derate methods for determining the rated capacity of a boiler under NSPS subparts D, Da, Db, and Dc.

Abstract for [0500018]

Q1: Will EPA allow Riverside Energy Center to conduct the initial NOX performance testing at only 50 and 100 percent of maximum operating load, instead of at all four loads as required under 40 CFR part 60, subpart GG?

A1: Yes. EPA will waive the requirement under NSPS subpart GG to conduct performance testing for nitrogen oxides (NOX) for each turbine at four load levels under the following conditions: The turbine burns natural gas; the NOX continuous emission monitoring system (CEMS) data provides a continuous record of NOX emissions; and the testing at 100 percent load is the same as testing peak load.

Q2: Will EPA allow the facility under 40 CFR part 60, subpart GG, to test one of two combined cycle generating units to demonstrate both units in compliance with NOX, CO and VOC emission limits during startup and shut down, in lieu of testing all units?

A2: No. The plant is required under NSPS subpart GG to conduct a performance test of each of the two identical gas turbines for purposes of showing NSPS compliance.

Q3: Will EPA allow the facility under 40 CFR part 60, subpart GG to use NOX CEMS data in lieu of monitoring the water fuel ratio?

A3: Yes. The plant may use NOX CEMS monitoring instead of monitoring the water fuel ratio.

Abstract for [M050010]

Q: If the total quantity of hazardous air pollutants (HAPs) contained in the remediation material that Connecticut Resources Recovery Authority (CRRA) of Hartford, Connecticut will excavate, extract, pump, or otherwise remove is less than 1 megagram per year (Mg/yr), is it subject only to the recordkeeping requirements of 40 CFR part 63, subpart GGGGG?

A: Yes. EPA confirms that as long as CRRA's site remediation meets the conditions of 40 CFR 63.7881(c), including that the areas to be remediated, contain less than 1 Mg/yr of HAPs, the facility will be subject only to the recordkeeping requirements of Maximum Achievable Control Technology (MACT) subpart GGGGG.

Abstract for [M050011]

Q: Will EPA allow Boise Paper Solutions in International Falls, Minnesota to monitor, under 40 CFR part 63, subpart MM, the scrubber liquid supply pressure in lieu of the pressure drop across the wet scrubber used to control emissions from the lime kiln?

A: Yes. EPA will allow this under Maximum Achievable Control Technology (MACT) subpart MM, because for this particular scrubber, liquid supply pressure is a better indicator of scrubber performance and shall be monitored along with liquor flow rate to demonstrate compliance.

Abstract for [M050012]

Q: Will EPA allow Boise Paper Solutions in International Falls, Minnesota to demonstrate, under 40 CFR part 63, subpart MM, compliance using particulate emission tests conducted after the pulp mill combustion Maximum Achievable Control Technology (MACT) promulgation date but before the compliance date?

A: Yes. EPA will allow this under MACT subpart MM on the condition that the production rates achieved during the November 2003 tests represent the highest production rates currently achievable.

Abstract for [M050013]

Q: Will EPA allow Boise Paper Solutions in International Falls, Minnesota to set, under 40 CFR part 63, subpart MM, a compliant wet scrubber operating parameter range that is 10 percent lower than the average value recorded during a performance test?

A: No. EPA will not allow this because Maximum Achievable Control Technology (MACT) subpart MM requires that the compliant operating parameter range be established using the arithmetic average of the values recorded during a performance test.

Abstract for [M050014]

Q1: Will EPA allow Boise Paper Solutions in International Falls, Minnesota to set, under 40 CFR part 63, subpart MM, a minimum compliant scrubber liquor flow rate at 425 gallons per minute (gpm) and a minimum compliant scrubber liquor supply pressure at 308 pounds per square inch (psi)?

A1: Yes. EPA will allow this because test data demonstrate compliance with the particulate matter limit of Maximum Achievable Control Technology (MACT) subpart MM if these parameters are met.

Abstract for [M050015]

Q2: Will EPA allow the MeadWestvaco paper mill in Chillicothe, Ohio to demonstrate continuous compliance with 40 CFR part 63, subpart MM, using operating parameters for the smelt dissolving tank scrubber pressure drop that were established during tests not conducted in accordance with all the requirements of MACT subpart MM?

A2: No. EPA cannot consider approving under MACT subpart MM this proposal for a compliant operating parameter range until the initial performance test is conducted.

Abstract for [M050016]

Q: Is the Chicago White Metals die casting facility in Bensenville, Illinois subject to 40 CFR part 63, subpart RRR if it is an area source that only melts clean charge and internal scrap?

A: No. Under these facts, the facility in question is not subject to subpart RRR. However, if the facility increases its emissions and becomes a major source, or if the materials charged into the remelt furnaces are anything other than clean charge, internal scrap, or customer returns, then the furnaces will be subject.

Abstract for [M050017]

Q: May the Scepter secondary aluminum facility in Bicknell, Indiana use an alternative reactive flux injection monitoring method under 40 CFR part 63, subpart RRR?

A: Yes. The facility may use an alternative reactive flux injection monitoring method under Maximum Achievable Control Technology (MACT) subpart RRR as long as the flux rate for the entire batch cycle for each furnace is below that established during the performance tests.

Abstract for [M050018]

Q: Is the Commonwealth Industries facility in Uhrichsville, Ohio subject to 40 CFR part 63, subpart RRR if it is an area source which reports having Group 2 furnaces?

A: The furnaces are not subject to the testing requirements of Maximum Achievable Control Technology (MACT) subpart RRR. However, they are subject to the operating, monitoring, recordkeeping and reporting requirements of MACT subpart RRR.

Abstract for [M050019]

Q: May the Wausau-Mosinee paper mill in Brokaw, Wisconsin monitor the on/off status of the scrubber pumps instead of the pressure drop across the venturi scrubbers under 40 CFR part 63, subpart MM?

A: No. Pressure drop and scrubber liquid flow rate are critical parameters for the performance of venturi scrubbers. EPA has already approved monitoring the on/off status of the scrubber pumps in lieu of monitoring the liquid flow rate.

Dated: May 26, 2005.
Michael M. Stahl,
Director, Office of Compliance.

[FR Doc. 05-12358 Filed 6-21-05; 8:45 am]

BILLING CODE 6560-50-P